DEPARTMENT OF COMMERCE

National Oceanic and Atmospheric Administration

Proposed Information Collection; Comment Request; Vessel Monitoring System for Atlantic Highly Migratory Species

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 6, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Chris Rilling, Highly Migratory Species Management Division (F/SF1), Office of Sustainable Fisheries, National Marine Fisheries Service, 1315 East-West Highway, Silver Spring, MD 20910, phone (301) 713-2347 or Chris.Rilling@noaa.gov.

SUPPLEMENTARY INFORMATION:

I. Abstract

Vessels fishing for Atlantic highly migratory species (HMS) with pelagic longline, bottom longline, or gillnet gear on board are required to install and operate a vessel monitoring system (VMS). VMS is required in these fisheries to aid in enforcement and protection of closed areas. These areas were closed to reduce bycatch in HMS fisheries, to aid in rebuilding overfished stocks, and to protect protected species such as right whales. The automatic position reports are required to be submitted on an hourly basis whenever the vessel is at sea. The placement of VMS units on fishing vessels allows the National Marine Fisheries Service (NMFS) to determine vessel locations and complements the Agency's efforts to monitor and enforce compliance with applicable regulations, including time/area closures. Vessel operators who are purchasing and installing a VMS unit for the first time are required to follow an equipment installation checklist and submit it to NMFS. The checklist provides information on the hardware and communications service selected by each vessel. NMFS uses the returned checklists to ensure that position reports are received and to aid NMFS in troubleshooting problems.

The regulations implementing the VMS requirements are at 50 CFR 635.69(a). Further information can be found in the final rules 68 FR 45619, 68 FR 74746, 69 FR 19979 and 69 FR 51010.

II. Method of Collection

Checklists will be submitted in paper form for vessels installing VMS for the first time. Position reports will be automatically sent electronically by the vessel monitoring system units.

III. Data

OMB Number: 0648-0372.

Form Number: None.

Type of Review: Regular submission.

Affected Public: Business and other for-profit organizations.

Estimated Number of Respondents: 329.

Estimated Time Per Response: 4 hours for VMS installation; 2 hours for annual maintenance of the equipment; 0.033 seconds per automated position report from the automated equipment, and 5 minutes to complete and return a one-time installation checklist.

Estimated Total Annual Burden Hours: 15,667.

Estimated Total Annual Cost to Public: $775,251. This is a maximum figure based upon the total number of vessels in the fleet (329), VMS maintenance ($500/year), and position reports ($1.39/day).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 30, 2005.
Gwellnar Banks,
Management Analyst, Office of the Chief Information Officer.

[FR Doc. E5-6850 Filed 12-5-05; 8:45 am]

BILLING CODE 3510-22-P